FEDERAL COMMUNICATIONS COMMISSION

Federal Advisory Committee Act; Broadband Deployment Advisory Committee, GN 17-83

AGENCY: Federal Communications Commission.

ACTION: Notice of renewal of the Broadband Deployment Advisory Committee's charter.

SUMMARY: The Federal Communications Commission (Commission) hereby announces that the charter of the Broadband Deployment Advisory Committee (hereinafter Committee) has been renewed pursuant to the Federal Advisory Committee Act (FACA).

FOR FURTHER INFORMATION CONTACT: Paul D'Ari, Designated Federal Officer, Federal Communications Commission, Wireline Competition Bureau, (202) 418-1550, or email: Paul.DAri@fcc.gov.

SUPPLEMENTARY INFORMATION: On February 4, 2019, the General Services Administration approved renewal of the charter of the Committee pursuant to provisions of the FACA. The Commission intends to renew the charter on or before March 1, 2019 and provide the Committee with authorization to operate for two years from the effective date.

The Committee provides recommendations to the Commission on how to accelerate the deployment of high-speed internet access, or “broadband,” by reducing and/or removing regulatory barriers to infrastructure investment and strengthening existing broadband networks in communities across the country. This Committee provides an effective means for stakeholders with interests in this area to exchange ideas and develop recommendations to the Commission on broadband deployment, which will in turn enhance the Commission's ability to carry out its statutory responsibility to encourage broadband deployment to all Americans.

Issues to be considered by the Committee may include, but are not limited to, measures to prepare for, respond to, and recover from disasters that impact broadband networks; new ways of encouraging deployment of high-speed broadband infrastructure and services to low-income communities; and other ways to accelerate deployment of broadband infrastructure to all Americans and to close the digital divide.

The Committee is organized under, and operates in accordance with, the provisions of the FACA. The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate on March 1, 2021, or earlier upon the completion of its work as determined by the Chairman, unless its charter is renewed prior to the termination date.

During the Committee's second term, it is anticipated that the Committee will meet in Washington, DC for at least three (3) one-day meetings. The first meeting date and agenda topics will be described in a Public Notice issued and published in the Federal Register at least fifteen (15) days prior to the first meeting date. In addition, as needed, working groups or subcommittees (ad hoc or steering) will be established to facilitate the Committee's work between meetings of the full Committee. All meetings, including those of working groups and subcommittees, will be fully accessible to individuals with disabilities.

Federal Communications Commission.
Pamela Arluk,
Chief, Competition Policy Division, Wireline Competition Bureau.

[FR Doc. 2019-02567 Filed 2-14-19; 8:45 am]

BILLING CODE 6712-01-P